DEPARTMENT OF TRANSPORTATION

Great Lakes St. Lawrence Seaway Development Corporation

33 CFR Part 402

RIN 2135-AA54

Tariff of Tolls

AGENCY: Great Lakes St. Lawrence Seaway Development Corporation, DOT.

ACTION: Final rule.

SUMMARY: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC. The GLS is revising its regulations to reflect the fees and charges levied by the SLSMC in Canada starting in the 2023 navigation season, which are effective only in Canada.

DATES: This rule is effective on March 22, 2023.

ADDRESSES: Docket: For access to the docket to read background documents or comments received, go to http://www.Regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Great Lakes St. Lawrence Seaway Development Corporation, 180 Andrews Street, Massena, New York 13662; (315) 764-3200.

SUPPLEMENTARY INFORMATION: The Great Lakes St. Lawrence Seaway Development Corporation (GLS) and the St. Lawrence Seaway Management Corporation (SLSMC) of Canada, under international agreement, jointly publish and presently administer the St. Lawrence Seaway Tariff of Tolls (Schedule of Fees and Charges in Canada) in their respective jurisdictions.

The Tariff sets forth the level of tolls assessed on all commodities and vessels transiting the facilities operated by the GLS and the SLSMC. The GLS is revising 33 CFR 402.12, “Schedule of tolls”, to reflect the fees and charges levied by the SLSMC in Canada beginning in the 2023 navigation season.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

Regulatory Evaluation

This regulation involves a foreign affairs function of the United States and therefore, Executive Order 12866 does not apply and evaluation under the Department of Transportation's Regulatory Policies and Procedures is not required.

Regulatory Flexibility Act Determination

I certify this regulation will not have a significant economic impact on a substantial number of small entities. The St. Lawrence Seaway Tariff of Tolls primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 402

Vessels, Waterways.

Accordingly, the Great Lakes St. Lawrence Seaway Development Corporation amends 33 CFR part 402 as follows:

PART 402—TARIFF OF TOLLS

1. The authority citation for part 402 continues to read as follows:

Authority: 33 U.S.C. 983(a), 984(a)(4), and 988, as amended; 49 CFR 1.101.

Subpart A—Regulations

2. Amend § 402.3 by:

a. Revising the definitions of “Cargo”, “Commodity”, and “Containerized Cargo”;

b. Removing the definition of “Duration;” and

c. Revising the definitions of “New business” and “Volume commitment”.

The revisions read as follows:

§ 402.3 Interpretation.

* * * * *

Cargo means all goods aboard a vessel whether carried as revenue or non-revenue freight or carried for the vessel owner, but does not include:

(1) Empty containers or the tare weight of loaded containers;

(2) Vessels' fuel, ballast or stores;

(3) The personal effects of crew or passengers; or

(4) In transit cargo that is carried both upbound and downbound in the course of the same voyage.

* * * * *

Commodity means cargo that has been defined as a commodity in the Manager's commodity codes.

Containerized cargo means cargo shipping in a container. Containers are used to transport freight in multiple modes: vessel, rail, and truck. There are many configurations: Dry, insulated or thermal, refrigerated or reefer, flat racks and platforms, open top and tank. Typical dimensions: 8 feet in width, 8 feet 6 inches or 9 feet 6 inches in height and 20 feet or 40 feet in length. Less common lengths include, for example, 24, 28, 44, 45, 46, 48, 53, and 56 feet.

* * * * *

New business means:

(1) Containerized cargo moved by vessel in the Seaway at any time in a navigation season;

(2) A commodity/origin/destination combination in which the commodity moved by vessel in the Seaway at any time in a navigation season:

(i) Originating at a point inside Canada or the United States of America or at a country outside Canada or the United States of America, provided that such commodity has not originated from such point or country, as the case may be, at any time in any of the five consecutive navigation seasons immediately preceding the then current navigation season;

(ii) Destined to a point inside Canada or the United States of America or a country outside Canada or the United States of America, provided that such commodity has not been destined to such point or country, as the case may be, at any time in any of the five consecutive navigation seasons immediately preceding the then current navigation season;

(iii) Originating at a point inside Canada or the United States of America or a country outside Canada or the United States of America and destined to a point inside Canada or the United States of America or a country outside Canada or the United States of America, provided that such Commodity was previously moved by any mode of transportation other than by vessel at all times in the five consecutive navigation seasons immediately preceding the then current navigation season; or

(iv) That has not moved through either section of the Seaway in any of the five consecutive navigation seasons immediately preceding the then current navigation season, in a volume exceeding 10,000 metric tons.

* * * * *

Volume commitment means the negotiated annual cargo tonnage, with a minimum of 75,000 metric tons per year, a shipper/receiver must reach for the negotiated toll reduction under the Gateway Incentive to become applicable.

* * * * *

3. Amend § 402.4 by revising paragraph (b) to read as follows:

§ 402.4 Tolls.

* * * * *

(b) The toll is assessed against the vessel and its cargo for a complete or partial transit of the Seaway and covers a single trip in one direction.

* * * * *

4. Amend § 402.8 by revising paragraphs (b) introductory text, (c), (e), and (f) and adding paragraph (g) to read as follows:

§ 402.8 Gateway Incentive.

* * * * *

(b) To be eligible for the refund applicable under the Gateway Incentive program, a shipper/receiver, or its representative, must:

* * * * *

(c) The shipper/receiver, or its representative, will qualify annually for the negotiated toll reduction upon completion of the annual volume commitment.

* * * * *

(e) The shipper/receiver, or its representative, will provide the Manager with a request for the Gateway Incentive refund, together with copies of any documents required to support the request, within sixty (60) days of the close of the navigation season. Requests for refunds should be submitted to the Manager who will be responsible for reviewing all documents and data and recommending the refund under the Gateway Incentive.

(f) The negotiated Gateway Incentive percentage of tolls reduction paid in respect of qualifying cargo shipped will be refunded by the Manager after the close of the navigation season, once the Manager has confirmed through the review of submitted support documents that the shipper/receiver has met the volume commitment. The Manager reserves the right to require the ultimate origin and destination of cargoes to validate the commitment.

(g) The Manager reserves the right to immediately terminate any Gateway Incentive agreement.

5. Revise § 402.12 to read as follows:

§ 402.12 Schedule of tolls.

Table 1 to § 402.12
Item | Column 1: Description of charges | Column 2: Rate ($)—Montreal to or from Lake Ontario (5 locks) | Column 3: Rate ($)—Welland Canal—Lake Ontario to or from Lake Erie (8 locks)
1 | Subject to item 3, for complete transit of the Seaway, a composite toll, comprising:
| (1) A charge per gross registered ton of the vessel, applicable whether the vessel is wholly or partially laden, or is in ballast, and the gross registered tonnage being calculated according to prescribed rules for measurement or under the International Convention on Tonnage Measurement of Ships, 1969, as amended from time to time ¹
| (a) All vessels excluding passenger vessels | 0.1218 | 0.1949.
| (b) Passenger vessels | 0.3655 | 0.5846.
| (2) A charge per metric ton of cargo as certified on the vessel's manifest or other document, as follows:
| (a) Bulk cargo | 1.2628 | 0.8620.
| (b) General cargo | 3.0428 | 1.3796.
| (c) Steel slab | 2.7539 | 0.9876.
| (d) Containerized cargo | 1.2628 | 0.8620.
| (e) Government aid cargo | n/a | n/a.
| (f) Grain | 0.7758 | 0.8620.
| (g) Coal | 0.7758 | 0.8620.
| (3) A charge per passenger per lock | 0.0000 | 0.0000.
| (4) A lockage charge per Gross Registered Ton of the vessel, as defined in item 1(1), applicable whether the vessel is wholly or partially laden, or is in ballast, for transit of the Welland Canal in either direction by cargo vessels | n/a | 0.3247.
| Up to a maximum charge per vessel | n/a | 4541.6800.
2 | Subject to item 3, for partial transit of the Seaway | 20 per cent per lock of the applicable charge under items 1(1), 1(2) and 1(4) plus the applicable charge under items 1(3) | 13 per cent per lock of the applicable charge under items 1(1), 1(2) and 1(4) plus the applicable charge under items 1(3).
3 | Minimum charge per vessel per lock transited for full or partial transit of the Seaway | 31.5244 ² | 31.5224.
4 | A charge per pleasure craft per lock transited for full or partial transit of the Seaway, including applicable federal taxes ³ | 30.00 ² | 30.00.
5 | Under the New Business Initiative Program, for cargo accepted as New Business, a percentage rebate on the applicable cargo charges for the approved period | 20% | 20%.
6 | Under the Volume Rebate Incentive program, a retroactive percentage rebate on cargo tolls on the incremental volume calculated based on the pre-approved maximum volume | 10% | 10%.
7 | Under the New Service Incentive Program, for New Business cargo moving under an approved new service, an additional percentage refund on applicable cargo tolls above the New Business rebate | 20% | 20%.
¹ Or under the US GRT for vessels prescribed prior to 2002.
² The applicable charged under item 3 at the Great Lakes St. Lawrence Seaway Development Corporation's locks (Eisenhower, Snell) will be collected in U.S. dollars. The collection of the U.S. portion of tolls for commercial vessels is waived by law (33 U.S.C. 988a(a)). The other charges are in Canadian dollars and are for the Canadian share of tolls.
³ The applicable charge at the Great Lakes St. Lawrence Seaway Development Corporation's locks (Eisenhower, Snell) for pleasure craft is $30 U.S. or $30 Canadian per lock.
⁴ $5.00 discount per lock applicable on ticket purchased for Canadian locks via online reservation and payment system.

Issued at Washington, DC, under authority delegated at 49 CFR part 1.101 Great Lakes St. Lawrence Seaway Development Corporation.
Carrie Lavigne,
Chief Counsel.

[FR Doc. 2023-05007 Filed 3-10-23; 8:45 am]

BILLING CODE 4910-61-P